DEPARTMENT OF COMMERCE

National Oceanic and Atmospheric Administration

[I.D. 031606C]

Endangered Species; File No. 1571

AGENCY: National Marine Fisheries Service (NMFS), National Oceanic and Atmospheric Administration (NOAA), Commerce.

ACTION: Notice; receipt of application.

SUMMARY: Notice is hereby given that the Southeast Fisheries Science Center (SEFSC), NMFS, 75 Virginia Beach Drive, Miami, Florida 33149, has applied in due form for a permit to take green (Chelonia mydas), loggerhead (Caretta caretta), Kemp's ridley (Lepidochelys kempii), hawsbill (Eretmochelys imbricata), olive ridley (Lepidochelys olivacea), and leatherback (Dermochelys coriacea) sea turtles for purposes of scientific research.

DATES: Written, telefaxed, or e-mail comments must be received on or before April 21, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1571.

FOR FURTHER INFORMATION CONTACT: Patrick Opay or Amy Hapeman, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The research would use resource assessment cruises as a platform to fill in data gaps in the basic biology of sea turtles, provide information on population dynamics to improve stock assessments, and to better understand the distribution of turtles in time and space. Turtles that are incidentally captured during resource assessment cruises would be used by the SEFSC in their assessments of distribution and abundance of turtles, as well as the cumulative impact of the relevant fishery on the stocks. The incidental capture would accrue to and be authorized by the fisheries being researched. The SEFSC would annually handle, identify, examine, measure, weigh, photograph, flipper tag, passive integrated transponder (PIT) tag, skin biopsy, and release or salvage the carcass, tissue, and parts of up to 6 green, 17 loggerhead, 8 Kemp's ridley, 6 hawksbill, 6 olive ridley, 6 unidentified hardshell, and 17 leatherback sea turtles. Research would occur in the Atlantic Ocean, Gulf of Mexico, Caribbean Sea, and their tributaries. The permit would be issued for five years.

Dated: March 16, 2006.
Stephen L. Leathery,
Chief, Permits, Conservation and Education Division, Office of Protected Resources, National Marine Fisheries Service.

[FR Doc. E6-4159 Filed 3-21-06; 8:45 am]

BILLING CODE 3510-22-S